DEPARTMENT OF ENERGY

Office of Energy Efficiency and Renewable Energy

Federal Energy Management Advisory Committee

AGENCY: Department of Energy.

ACTION: Notice of open meeting.

SUMMARY: This notice announces an open meeting of the Federal Energy Management Advisory Committee (FEMAC). The Federal Advisory Committee Act (Public Law 92-463, 86 Stat. 770) requires that these meetings be announced in the Federal Register to allow for public participation. This notice announces the sixth meeting of FEMAC, an advisory committee authorized under Executive Order 13123—“Greening the Government through Efficient Energy Management.”

DATES: Tuesday, February 12, 2002; 9 a.m. to 4:30 p.m.; Wednesday, February 13, 2002; 8:30 a.m. to 12 p.m.

ADDRESSES: Loews L'Enfant Plaza Hotel, 480 L'Enfant Plaza, SW, Washington, DC 20024.

FOR FURTHER INFORMATION CONTACT: Rick Klimkos, Acting Designated Federal Officer for the Committee, Office of Federal Energy Management Programs, U.S. Department of Energy, 1000 Independence Avenue, SW, Washington, DC 20585; (202) 586-8287.

SUPPLEMENTARY INFORMATION: Purpose of meeting: To provide advice and guidance on a range of issues critical to meeting mandated Federal energy management goals.

Tentative Agenda: Agenda will include discussions on the following topics:

Tuesday, February 12, 2002 and Wednesday, February 13, 2002

• FEMAC participation in Energy 2002

• FEMAC Strategic Plan Working Group report

• FEMP FY 2003 budget

• Pending legislation affecting energy management in Federal facilities

• Update on FEMP program activities

• Other energy management issues and topics of interest to committee members

• Public comment

Public Participation: In keeping with procedures, members of the public are welcome to observe the business of the Federal Energy Management Advisory Committee. If you would like to file a written statement with the Committee, you may do so either before or after the meeting. If you would like to make oral statements regarding any of these items on the agenda, you should contact Rick Klimkos at (202) 586-8287 or Rick.Klimkos@ee.doe.gov (e-mail). You must make your request for an oral statement at least 5 business days before the meeting. Members of the public will be heard in the order in which they sign up at the beginning of the meeting. Reasonable provision will be made to include the scheduled oral statements on the agenda. The Chair of the Committee will make every effort to hear the views of all interested parties. The Chair will conduct the meeting to facilitate the orderly conduct of business.

Minutes: The minutes of the meeting will be available for public review and copying within 30 days at the Freedom of Information Public Reading Room; Room 1E-190; Forrestal Building; 1000 Independence Avenue, SW., Washington, DC, between 9 a.m. and 4 p.m., Monday through Friday, except Federal holidays.

Issued at Washington, DC on January 23, 2002.
Rachel M. Samuel,
Deputy Advisory Committee Management Officer.

[FR Doc. 02-2050 Filed 1-25-02; 8:45 am]

BILLING CODE 6450-01-P